DEPARTMENT OF JUSTICE

Notice of Lodging of Consent Decree Under the Clean Water Act

Under 28 CFR 50.7 notice is hereby given that on April 26, 2002, a proposed Consent Decree in United States, et al., v. Mayor and City Council of Baltimore, Maryland, Civil Action No. 02-1524 JFM, was lodged with the United States District Court for the District of Maryland.

In this action the United States sought injunctive relief and civil penalties pursuant to section 301, 309, and 402 of the Federal Water Pollution Control Act, as amended, 33 U.S.C. 1311, 1319, and 1342, against The Mayor and City Council of Baltimore, Maryland for unpermitted discharges of sewage from its sanitary sewer system. Under the terms of the proposed Consent Decree, Baltimore will implement and complete a comprehensive program of injunctive relief to meet specified milestone dates and subject to stipulated venalities. Pursuant to the terms of the Consent Decree, Baltimore will undertake construction projects that will help ensure that its collection system has adequate capacity to handle wastewater flows. In addition, the Consent Decree requires Baltimore to undertake a comprehensive investigation of its collection system to identify and correct deficiencies. The estimate of the cost of the injunctive relief program is $940 million. In addition, under the terms of the proposed Consent Decree, Baltimore will pay a civil penalty of $600,000 and perform a supplemental environmental project of $2.7 million. Under the terms of the Consent Decree, Baltimore will complete the design for a biological nutrient treatment unit(s) at its Patapsco wastewater treatment plant.

The Department of Justice will receive for a period of thirty (30) days from the date of this publication comments relating to the Consent Decree. Comments should be addressed to the Assistant Attorney General, Environmental and Natural Resources Division, PO Box 7611, U.S. Department of Justice, Washington, DC 20044-7611, and should refer to United States, et al., v. Mayor and City Council of Baltimore, Maryland, Civil Action No. 02-1524 JFM, D.J. Ref. 90-5-1-1-4402/1.

The Consent Decree may be examined at the Office of the United States Attorney, District of Maryland, 6625 U.S. Courthouse, 101 W. Lombard St., Baltimore, MD 21201, and at U.S. EPA Region 3, 1650 Arch Street, Philadelphia, PA 19107. A copy of the Consent Decree may also be obtained by mail from the Consent Decree Library, PO Box 7611, U.S. Department of Justice, Washington, DC 20044-7611 or by faxing a request to Tonia Fleetwood, fax no. (202) 514-0097, phone confirmation number (202) 514-1547. In requesting a copy, please enclose a check in the amount of $25.25 (25 cents per page reproduction cost) payable to the U.S. Treasury.

Robert D. Brook,
Assistant Chief, Environmental Enforcement Section, Environmental and Natural Resources Division.

[FR Doc. 02-12202 Filed 5-15-02; 8:45 am]

BILLING CODE 4410-15-M